FEDERAL COMMUNICATIONS COMMISSION

Notice of Public Information Collection(s) Being Reviewed by the Federal Communications Commission, Comments Requested

July 18, 2005.

SUMMARY: The Federal Communications Commission, as part of its continuing effort to reduce paperwork burden, invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information, subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before September 26, 2005. If you anticipate that you will be submitting comments, but find it difficult to do so within the period of time allowed by this notice, you should advise the contact listed below as soon as possible.

ADDRESSES: Direct all Paperwork Reduction Act (PRA) comments to Les Smith, Federal Communications Commission, Room 1-A804, 445 12th Street, SW., Washington, DC 20554 or via the Internet to Leslie.Smith@fcc.gov.

FOR FURTHER INFORMATION CONTACT: For additional information or copies of the information collection(s), contact Les Smith at (202) 418-0217 or via the Internet at Leslie.Smith@fcc.gov.

SUPPLEMENTARY INFORMATION: OMB Control Number: 3060-0329.

Title: Equipment Authorization—Verification, 47 CFR Section 2.955.

Form Number: N/A.

Type of Review: Extension of a currently approved collection.

Respondents: Not-for-profit institutions; business or other for-profit entities.

Number of Respondents: 5,655.

Estimated Time per Response: 18 hours (avg.).

Frequency of Response: On occasion reporting requirement; third party disclosure.

Total Annual Burden: 101,790 hours.

Total Annual Cost: $1,131,000.

Privacy Impact Assessment: No impact(s).

Needs and Uses: The Commission rules 47 CFR parts 15 and 18 require manufacturers of radio frequency (RF) equipment devices to gather and retain technical data on their equipment to verify compliance with established technical standards for each device operated under the applicable Rule part. Testing and verification aid in controlling potential interference to radio communications. The information may be used to determine that the equipment marketed complies with the applicable Commission rules and that the operation of the equipment is consistent with the initially documented test results. The information is essential to controlling potential interference to radio communications.

OMB Control Number: 3060-0905.

Title: Regulations for RF Lighting Devices, Section 18.307, ET Docket No. 98-42.

Form Number: N/A.

Type of Review: Extension of a currently approved collection.

Respondents: Not-for-profit institutions; business or other for-profit entities.

Number of Respondents: 30.

Estimated Time per Response: 1 hour.

Frequency of Response: On occasion reporting requirement; third party disclosure.

Total Annual Burden: 30 hours.

Total Annual Cost: $2,250.

Privacy Impact Assessment: No impact(s).

Needs and Uses: On June 16, 1999, the FCC released a First Report and Order (First R&O), In the Matter of 1998 Biennial Regulatory Review—Amendment of Part 18 of the Commission's Rules to Update Regulations for RF Lighting Devices, ET Docket No. 98-42, FCC 99-135. The First R&O, amended 47 CFR Section 18.307 of the Commission's Rules to add third party requirements. In addition, Section 18.213(d) was added to require manufacturers of RF lighting devices to provide an advisory statement either on the product packaging or with other user documentation, similar to the following: This product may cause interference to radio equipment and should not be installed near maritime safety communications equipment or other critical navigation or communication equipment operating between 0.45-30 MHz.

The Commission will used the information to determine whether all RF lighting devices are in compliance with the applicable Commission rules and are capable of producing conducted emissions in the 0.45-30 MHz band, and have a simple warning label with a short advisory statement.

Federal Communications Commission.
Marlene H. Dortch,
Secretary.

[FR Doc. 05-14839 Filed 7-26-05; 8:45 am]

BILLING CODE 6712-01-P